DEPARTMENT OF THE TREASURY

Internal Revenue Service

Tax Design Challenge; Requirements and Procedures

AGENCY: Internal Revenue Service, Treasury.

ACTION: Notice.

SUMMARY: This Notice announces the requirements and procedures for the Tax Design Challenge (“the Challenge). The Challenge is a crowdsourcing competition, with cash prizes, that the IRS is hosting to begin reimagining the taxpayer experience of the future. The goal of this design challenge is to develop new concepts for designing, organizing and presenting tax information in a way that makes it easier for taxpayers to understand their taxpayer responsibilities and effectively use their own taxpayer data.

DATES: Effective on April 17, 2016. Challenge submission period ends May 10, 2016, 11:59 a.m. ET.

ADDRESSES: 1. The kickoff meeting for the Tax Design Challenge will take place at 1776, 1133 15th Street NW., Washington, DC 20005.

2. Challenge submissions must be submitted electronically at www.taxdesignchallenge.com.

FOR FURTHER INFORMATION CONTACT: Christopher Daggett, 503-330-6311 or Michael Lin, 202-317-6381.

SUPPLEMENTARY INFORMATION:

Subject of Challenge Competition

Tax information is available to taxpayers across multiple IRS channels and contains a wealth of information. Many taxpayers, however, might not know where to find this information or how to use it, as much of this information reads like a receipt and can be incomprehensible to those who are not financial professionals.

The Challenge asks: How might we design, organize, and present tax information in a way that makes it easier for taxpayers to manage their taxpayer responsibilities, and to use their own taxpayer data to make informed and effective decisions about their personal finances?

This is an incredible opportunity for civic-minded technologists, designers, and innovative thinkers to improve and shape the user experience of one of the most visited government Web sites in the U.S.

Challenge entrants will submit a design that

* Improves the visual layout and style of the information for the taxpayer

* Makes it easier for a taxpayer to manage his/her taxpayer responsibilities

* Empowers a taxpayer to make informed and effective decisions about his/her personal finances.

Entrants should consider end users in developing their design. Our tax system includes people from many different socioeconomic backgrounds, with different needs and responsibilities.

The Challenge is an opportunity for talented individuals to touch the lives of Americans across the country through design. The most innovative designs will be showcased in an online gallery. Winning submissions will receive monetary prizes.

The IRS enthusiastically supports crowdsourcing competitions, as they have proven to be cost-efficient vehicle for catalyzing innovation in government.

Submission Requirements

In order for an entry to be eligible to win the Challenge, it must meet the following requirements:

Deliverable: Must be an image or browser viewable file. The acceptable image formats: .PNG, .JPG, .GIF, .TIFF, and .PDF. The acceptable browser viewable format is .HTML.

Feasibility: The Challenge requires only that the design of the taxpayer experience be submitted. It is not the responsibility of the entrant to build or code a working version of the design. However, the design must be ultimately implementable using HTML, CSS, and JavaScript.

Data: The design must be built off the data fields found in the Tax Data Document (TDD), which will be posted on www.taxdesignchallenge.com.

Eligibility Rules for Participating in the Challenge

To be eligible to win a prize under the Challenge, an individual or entity—

(1) Must register to participate in the Challenge under the rules promulgated by the Internal Revenue Service.

(2) Must comply with all the requirements under this section.

(3) In the case of a private entity, shall be incorporated in and maintain a primary place of business in the United States, and in the case of an individual, whether participating singly or in a group, shall be a citizen or permanent resident of the United States.

(4) Shall not be a Federal entity or Federal employee acting within the scope of their employment.

(5) Shall not be an employee of the Internal Revenue Service or the Mortgage Bankers Association (“the Cosponsor”).

(6) Shall not be affiliated with any judge on the review panel. In the case of a private entity, this means that no judge currently serves as a director, officer, or employee of the entity. In the case of a private individual, the individual shall not have a close family or professional relationship with any judge.

(7) Federal grantees may not use Federal funds to develop Challenge applications unless consistent with the purpose of their grant award.

(8) Federal contractors may not use Federal funds from a contract to develop Challenge applications or to fund efforts in support of a Challenge submission.

An individual or entity shall not be deemed ineligible because the individual or entity used Federal facilities or consulted with Federal employees during a competition if the facilities and employees are made available to all individuals and entities participating in the Challenge on an equitable basis.

Entrants must agree to assume any and all risks and waive claims against the Federal Government, its related entities, and the Cosponsor, except in the case of willful misconduct, for any injury, death, damage, or loss of property, revenue, or profits, whether direct, indirect, or consequential, arising from participation in the Challenge, whether the injury, death, damage, or loss arises through negligence or otherwise.

Entrants must also agree to indemnify the Federal Government against third-party claims for damages arising from or related to Challenge activities.

Terms and Conditions for Participating in the Challenge

(1) Employment and Compensation. Participation in the Challenge does not create an employment relationship between participants and the IRS. Except for the prize winners, participants will not receive any compensation or other payment for any products or services that they provide to the IRS during the Challenge.

(2) Contracting. Participation in the Challenge does not establish a contractual relationship between the participants and the IRS. The Challenge results are not subject to protest or appeal under federal contracting laws.

(3) Intellectual Property.

(i) Each participant retains title and full ownership in and to their submissions. Participants expressly reserve all intellectual property rights not expressly granted under this notice.

(ii) By participating in the Challenge, each participant grants the IRS a non-exclusive, royalty-free, worldwide, irrevocable license to use any of participant's intellectual property incorporated in the participant's submission, in furtherance of the IRS's mission. This license includes the right to incorporate the submission into IRS products or processes, and to reproduce, publicly perform, publicly display, and use the submission, including, without limitation, for advertising and promotional purposes related to the Tax Design Challenge Series.

(iii) Participants warrant that they have permission to use any intellectual property of third parties that is included in their submissions, and that such permission extends to the IRS to the extent set forth in paragraph (3)(ii) of these Terms and Conditions.

(4) Liability. Participants agree to assume any and all risks and waive claims against the Federal Government, its related entities, and the Cosponsor, except in cases of willful misconduct, for any injury, death, damage or loss of property, revenue, or profits, whether direct, indirect or consequential, arising from their participation in the Challenge, whether the injury, death, damage or loss arises through negligence or otherwise.

(5) Challenge Judgments Final. Participants agree that the selection of prize winners is a matter of discretion for the judges, and all selections are final and binding.

Registration Process for Participants

To register for this challenge participants should either:

Access the www.challenge.gov Web site and search for the “Tax Design Challenge”.

Access the Tax Design Challenge Web site at: www.taxdesignchallenge.com.

A registration link for the Challenge can be found on the landing page under the Challenge description.

Amount of the Prize

Each submission will be considered for all three prize categories listed below. A review panel will select winners based on defined criteria (below). An individual submission can win multiple awards.

Overall Design: $10,000 (1st), and $5,000 (2nd).

Best Taxpayer Usefulness: $2,000 (1st), and $1,000 (2nd).

Best Financial Capability: $2,000 (1st), and $1,000 (2nd).

Awards may be subject to Federal income taxes and IRS will comply with all tax withholding and reporting requirements, where applicable.

Prizes will be funded by Cosponsor (Mortgage Bankers Association) and paid by IRS.

Basis Upon Which Winners Will Be Selected

The review panel will make selections based upon the following criteria:

—Overall Appeal

—Taxpayer Usefulness: Does it address the taxpayer's responsibilities?

—Financial Capability: Does it make it easier for the taxpayer to make informed and effective decisions about his/her personal finances?

—Visual Hierarchy: Can the most important information be easily found?

—Information Density: Is it easy to digest the information that is presented?

—Accessibility: Can a varied population make use of this document?

The review panel will operate in a transparent manner. Following the Challenge, the IRS will publish information about the panel's decision.

Authority: 15 U.S.C. 3719.

John Dalrymple,
Deputy Commissioner for Services and Enforcement.

[FR Doc. 2016-06432 Filed 3-21-16; 8:45 am]

BILLING CODE 4830-01-P